DEPARTMENT OF THE INTERIOR

Fish and Wildlife Service

[FWS-HQ-MB-2023-N093; FXMB12310900WH0-245-FF09M26000; OMB Control Number 1018-0023]

Agency Information Collection Activities; Submission to the Office of Management and Budget; Migratory Bird Surveys

AGENCY: Fish and Wildlife Service, Interior.

ACTION: Notice of information collection; request for comment.

SUMMARY: In accordance with the Paperwork Reduction Act of 1995, we, the U.S. Fish and Wildlife Service (Service), are proposing to renew an information collection, with changes.

DATES: Interested persons are invited to submit comments on or before January 10, 2024.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018- 0023” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On June 2, 2023, we published in the Federal Register (88 FR 36328) a notice of our intent to request that OMB approve this information collection. In that notice, we solicited comments for 60 days, ending on August 1, 2023. In an effort to increase public awareness of, and participation in, our public commenting processes associated with information collection requests, the Service also published the Federal Register notice on Regulations.gov (Docket No. FWS-HQ-MB-2023-0085) to provide the public with an additional method to submit comments (in addition to the typical Info_Coll@fws.gov email and U.S. mail submission methods). We received four comments in response to that notice which did not address the information collection requirements. No responses are required to those comments.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-711) and the Fish and Wildlife Act of 1956 (16 U.S.C. 742d) designate the Department of the Interior as the key agency responsible for (1) the wise management of migratory bird populations frequenting the United States, and (2) the setting of hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program (HIP) in each State in which they hunt each year. State natural resource agencies must send names and addresses of all migratory bird hunters to the Service's Branch of Monitoring and Information Management, Division of Migratory Bird Management, on an annual basis.

The Migratory Bird Hunter Survey is based on the Migratory Bird Harvest Information Program. We randomly select migratory bird hunters and ask them to report their harvests. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year, as well as a sample of hunters who were not surveyed the previous year, are asked to complete and return a letter if they are willing to participate in the Parts Collection Survey. We provide postage-paid envelopes to respondents before the hunting season and ask them to send in a wing or the tail feathers from each duck or goose that they harvest, or a wing from each mourning dove, woodcock, band-tailed pigeon, or rail that they harvest. We use the wings and tail feathers to identify the species, sex, and age of the harvested sample. We also ask respondents to report the date and location of harvest for each bird on the outside of the envelope. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

In 2019, we implemented a new, online platform for the Migratory Bird Hunter Survey. The platform is optimized for use on multiple devices (computer, tablet, or phone; Android or Apple OS). This online survey platform walks a participant through the process of entering their harvest for a single day and asks for one piece of information at a time, which reduces confusion and the likelihood that the hunter will provide incorrect information. The online system improves data quality and prevents errors (e.g., reporting harvest of the wrong species, or in the wrong State). We conducted the full paper survey through 2022, in order to ensure that data collected through the online platform was sound, and to provide a side-by-side comparison of harvest estimates that could be used to calibrate the old survey to the new one. This was particularly important for maintaining a continuous time series of harvest estimates, despite changing methodology. In the spring of 2024, we will conduct the full survey using the online application, but will provide a paper survey by mail to those hunters who request them.

Proposed Revisions

Pilot Digital Photo Survey—We propose to revise our Parts Collection Survey over the next 3 years (2023-2026) to replace or substantially augment bird wings and tails collection with photos of harvested birds, in order to reduce survey costs and perceived risk of disease transmission through the handling of wild bird parts. Preliminary assessments have indicated that photos taken by hunters of harvested waterfowl can be used to determine species, age, and sex of birds, without requiring examination of bird parts “in the hand.”

We propose to conduct a 3-year pilot study with the development of a mobile application that can be used by hunters to take photos of the birds they harvest and upload them to our database, and a web-based interface for expert biologists to use to examine and identify birds from photos. We propose to conduct the pilot study with up to 600 hunters each year, which allows us to (1) evaluate the potential of using photo identification for other species in the Parts Collection survey, including doves, band-tailed pigeons, woodcock and rails, (2) achieve sample sizes sufficient to assess the limitations of photo identification for all waterfowl species, (3) develop methods to enhance the quality of hunter-supplied photos, and (4) amass an annotated set of photos to provide to researchers investigating the potential of machine-learning based image classification methods for automated identification of species, age, and sex.

In addition, there is the potential for introducing other biases in data collection when transitioning to a photo survey; to assess these biases and provide uninterrupted information on annual harvest, we intend to conduct the full parts survey during this 3-year period to provide a comparison of results between the two surveys. If photo identification proves difficult for some species, we may continue a limited sample of parts collection to ensure harvest estimates can be calculated.

Title of Collection: Migratory Bird Information Program and Migratory Bird Surveys, 50 CFR 20.20.

OMB Control Number: 1018-0023.

Form Number: Forms 3-165, 3-165A through E, and 3-2056J through N.

Type of Review: Revision of a currently approved collection.

Respondents/Affected Public: States and migratory game bird hunters.

Respondent's Obligation: Mandatory for HIP registration information; voluntary for participation in the surveys.

Frequency of Collection: Annually for States or on occasion for migratory bird hunters.

Total Estimated Annual Nonhour Burden Cost: None.

Collection type/form number | Number of respondents | Average number of responses each | Number of annual responses * | Average time per response | Total Annual burden hours *
Migratory Bird Harvest Information Program (State Governments)
| 49 | 18 | 882 | 129 hours | 113,778
Migratory Bird Hunter Survey (Individuals)
Form 3-2056J | 31,900 | 1 | 31,900 | 4 minutes | 2,127
Form 3-2056K | 16,900 | 1 | 16,900 | 3 minutes | 845
Form 3-2056L | 8,500 | 1 | 8,500 | 3 minutes | 425
Form 3-2056M | 10,200 | 1 | 10,200 | 2 minutes | 340
Subtotals | 67,500 |  | 67,500 |  | 3,737
Parts Collection Survey—Online (Individuals)
Form 3-165 | 4,700 | 22 | 103,400 | 5 minutes | 8,617
Form 3-165A | 770 | 5.5 | 4,235 | 5 minutes | 353
Form 3-165B | 3,540 | 1 | 3,540 | 1 minute | 59
Form 3-165C | 260 | 1 | 260 | 1 minute | 4
Form 3-165D | 770 | 1 | 770 | 1 minute | 13
Form 3-165E | 750 | 1.5 | 1,125 | 5 minutes | 94
Subtotals | 10,790 |  | 113,330 |  | 9,140
Sandhill Crane Harvest Survey (Individuals)
Form 3-2056N | 5,900 | 1 | 5,900 | 1.5 minutes | 148
Pilot Digital Photo Survey (Individuals)
Form 3-165 | 200 | 22 | 4,400 | 2 minutes | 147
Form 3-165A | 60 | 5.5 | 330 | 2 minutes | 11
Form 3-165B | 150 | 1 | 150 | 1 minute | 3
Form 3-165C | 60 | 1 | 60 | 1 minute | 1
Form 3-165D | 60 | 1 | 60 | 1 minute | 1
Form 3-165E | 30 | 1.5 | 45 | 2 minutes | 2
Subtotals | 560 |  | 5,045 |  | 165
Totals | 84,799 |  | 192,657 |  | 126,968
* Rounded

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-27119 Filed 12-8-23; 8:45 am]

BILLING CODE 4333-15-P